OFFICE OF THE UNITED STATES TRADE REPRESENTATIVE

Request for Public Comments on Annual Review of Country Eligibility for Benefits Under the African Growth and Opportunity Act

AGENCY: Office of the United States Trade Representative.

ACTION: Notice and Request for Comments.

SUMMARY: The African Growth and Opportunity Act Implementation Subcommittee of the Trade Policy Staff Committee (the “Subcommittee”) is requesting written public comments for the annual review of the eligibility of sub-Saharan African countries to receive the benefits of the African Growth and Opportunity Act (AGOA). The Subcommittee will consider these comments in developing recommendations on AGOA country eligibility for the President. Comments received related to the child labor criteria may also be considered by the Secretary of Labor for the preparation of the Department of Labor's report on child labor as required under section 412(c) of the Trade and Development Act of 2000. This notice identifies the eligibility criteria that must be considered under AGOA, and lists those sub-Saharan African countries that are currently eligible for the benefits of the AGOA, and those that are currently ineligible for such benefits.

DATES: Public comments are due at the Office of the U.S. Trade Representative (USTR) by noon, Monday, October 20, 2008.

ADDRESSES: USTR prefers submission by electronic mail: FR0811@ustr.eop.gov. If you are unable to make a submission by e-mail, submissions should be made by facsimile to: Gloria Blue, Executive Secretary, Trade Policy Staff Committee, at (202) 395-6143. The public is strongly encouraged to submit documents electronically rather than by facsimile. See requirements for submissions below.

FOR FURTHER INFORMATION CONTACT: For procedural questions, please contact Gloria Blue, Office of the U.S. Trade Representative, 600 17th Street, NW., Room F516, Washington, DC. 20508, at (202) 395-3475. All other questions should be directed to Constance Hamilton, Deputy Assistant U.S. Trade Representative for Africa, Office of the U.S. Trade Representative, at (202) 395-9514.

SUPPLEMENTARY INFORMATION: The AGOA (Title I of the Trade and Development Act of 2000, Public Law 106-200) (19 U.S.C. 3721 et seq.), as amended, authorizes the President to designate sub-Saharan African countries as beneficiary sub-Saharan African countries eligible for duty-free treatment for certain additional products under the Generalized System of Preferences (GSP) (Title V of the Trade Act of 1974 (19 U.S.C. 2461 et seq.) (the “1974 Act”)), as well as for the preferential treatment the AGOA provides for certain textile and apparel articles.

The President may designate a country as a beneficiary sub-Saharan African country eligible for both the additional GSP benefits and the textile and apparel benefits of the AGOA for countries meeting certain statutory requirements intended to prevent unlawful transshipment of such articles, if he determines that the country meets the eligibility criteria set forth in: (1) Section 104 of the AGOA; and (2) section 502 of the 1974 Act. For 2008, 41 countries have been designated as beneficiary sub-Saharan African countries. These countries, as well as the 7 countries currently ineligible, are listed below. Section 506A of the 1974 Act provides that the President shall monitor and review annually the progress of each sub-Saharan African country in meeting the foregoing eligibility criteria in order to determine whether each beneficiary sub-Saharan African country should continue to be eligible, and whether each sub-Saharan African country that is currently not a beneficiary sub-Saharan African country, should be designated as such a country. Section 506A of the 1974 Act requires that, if the President determines that a beneficiary sub-Saharan African country is not making continual progress in meeting the eligibility requirements, he must terminate the designation of the country as a beneficiary sub-Saharan African country.

The Subcommittee is seeking public comments in connection with the annual review of the eligibility of beneficiary sub-Saharan African countries for the AGOA's benefits. The Subcommittee will consider any such comments in developing recommendations on country eligibility for the President. Comments related to the child labor criteria may also be considered by the Secretary of Labor in making the findings required under section 504 of the 1974 Act.

The following sub-Saharan African countries were designated as beneficiary sub-Saharan African countries in 2008:

Angola

Republic of Benin

Republic of Botswana

Burkina Faso

Burundi

Republic of Cape Verde

Republic of Cameroon

Republic of Chad

Federal Islamic Republic of Comoros

Republic of Congo

Democratic Republic of Congo

Republic of Djibouti

Ethiopia

Gabonese Republic

The Gambia

Republic of Ghana

Republic of Guinea

Republic of Guinea-Bissau

Republic of Kenya

Kingdom of Lesotho

Republic of Liberia

Republic of Madagascar

Republic of Malawi

Republic of Mali

Republic of Mauritius

Islamic Republic of Mauritania

Republic of Mozambique

Republic of Namibia

Republic of Niger

Federal Republic of Nigeria

Republic of Rwanda

Sao Tome & Principe

Republic of Senegal

Republic of Seychelles

Republic of Sierra Leone

Republic of South Africa

Kingdom of Swaziland

Republic of Togo

United Republic of Tanzania

Republic of Uganda

Republic of Zambia

The following sub-Saharan African countries were not designated as beneficiary sub-Saharan African countries in 2007:

Central African Republic

Republic of Cote d'Ivoire

Republic of Equatorial Guinea

State of Eritrea

Somalia

Republic of Sudan

Republic of Zimbabwe

Requirements for Submissions: Comments must be submitted in English. In order to facilitate the prompt processing of submissions, USTR strongly recommends that comments be set out in digital files attached to e-mails transmitted to the following address: FR0811@ustr.eop.gov. If you are unable to provide comments by e-mail, submissions should be made by facsimile as set forth above. Persons making submissions by e-mail should use the following subject line: “2008 AGOA Annual Country Review.” Digital files must be submitted in one of the following formats: WordPerfect (.WPD), Adobe (.PDF), MSWord (.DOC), or text (.TXT) files. Comments may not be submitted as electronic image files or contain embedded images, e.g., “.JPG”, “.TIF”, “.BMP”, or “.GIF”. Spreadsheet data may be submitted as Excel files, formatted for printing on 8½ x 11 inch paper. To the extent possible, any data accompanying the submission should be included in the same file as the submission itself, and not in a separate file. The transmittal message or cover letter accompanying a submission must be set out exclusively in the digital file attached to the e-mail transmission—not in the message portion of the e-mail—and must include the sender's name, organization name, address, telephone and fax numbers, and e-mail address.

If the submission contains business confidential information that the submitter wishes to protect from public disclosure, the confidential version must be marked “BUSINESS CONFIDENTIAL” at the top and bottom of each page. In addition, the submission must be accompanied by a non-confidential version that indicates, with asterisks, where confidential information was redacted or deleted. The top and bottom of each page of the non-confidential version must be marked either “PUBLIC VERSION” or “NON-CONFIDENTIAL”. Business confidential comments that are submitted without the required markings or are not accompanied by a properly marked non-confidential version as set forth above may not be accepted or may be treated as public documents.

The digital file name assigned to any business confidential version of a submission should begin with the characters “BC-”, and the file name of the public version should begin with the characters “P-”. The “P-” or “BC-” should be followed by the name of the submitter.

Public versions of all documents relating to this review will be available for review approximately two weeks after the due date by appointment in the USTR public reading room, 1724 F Street, NW., Washington, DC. Appointments may be made Monday through Friday, from 10 a.m. to 12 noon and 1 p.m. to 4 p.m., by calling (202) 395-6186. Appointments must be scheduled at least 48 hours in advance.

Carmen Suro-Bredie,
Chairman, Trade Policy Staff Committee.

[FR Doc. E8-22044 Filed 9-19-08; 8:45 am]

BILLING CODE 3190-W8-P